NATIONAL CAPITAL PLANNING COMMISSION

Notice of Public Comment Period for Updates to the Submission Guidelines

AGENCY: National Capital Planning Commission.

ACTION: Notice of 30-day public comment period.

SUMMARY: The National Capital Planning Commission (NCPC) has released a draft update to the Submission Guidelines for public review. Agencies that are subject to plan and project review submit development proposals to the Commission by following the process laid out in the Submission Guidelines. These guidelines describe the content of submissions, submission stages, along with the coordination and review process. The Guidelines were last amended in June 2024 in response to Executive Order 13985 (Advancing Racial Equity and Support for Underserved Communities Through the Federal Government). By way of Executive Order 14148, Executive Order 13985 was rescinded, and Executive Order 14151 (Ending Radical and Wasteful Government DEI Programs and Preferencing) was signed. Together, these orders required federal agencies to undo or amend agency regulations and policies that were made in accordance with Executive Order 13985 or which focused on a similar purpose, thereby necessitating revisions to the Guidelines. The draft update reverts the Guidelines to the version that existed prior to June 2024. The Submission Guidelines Update is available online at: https://www.ncpc.gov/participate/notices/.

DATES: The public comment period closes October 9, 2025.

ADDRESSES: Written public comments on the draft may be submitted by either method: U.S. mail, courier, or hand delivered: Submission Guidelines Public Comment, National Capital Planning Commission, 401 9th Street NW, Suite 500N, Washington, DC 20004; or Electronically: https://www.ncpc.gov/participate/notices/.

FOR FURTHER INFORMATION CONTACT: Email submission@ncpc.gov.

Authority: 40 U.S.C. 8721(a).

Dated: September 5, 2025.
Meghan Hottel-Cox,
General Counsel and Secretariat, National Capital Planning Commission.

[FR Doc. 2025-17298 Filed 9-8-25; 8:45 am]

BILLING CODE 7502-02-P